DEPARTMENT OF THE TREASURY

Internal Revenue Service

26 CFR Part 1

[REG-133850-13]

RIN 1545-BN93

Interest Capitalization Requirements for Improvements to Designated Property; Correction

AGENCY: Internal Revenue Service (IRS), Treasury.

ACTION: Notice of proposed rulemaking; correction.

SUMMARY: This document corrects a notice of proposed rulemaking (REG-133850-13) published in the Federal Register on May 15, 2024, containing proposed regulations that would remove the associated property rule and similar rules from the existing regulations on the interest capitalization requirements for improvements to designated property.

DATES: Written or electronic comments were to be received by July 15, 2024.

ADDRESSES: Commenters were strongly encouraged to submit public comments electronically.

FOR FURTHER INFORMATION CONTACT: Concerning the proposed regulations, contact Livia Piccolo of the Office of Associate Chief Counsel (Income Tax and Accounting), at (202) 317-7007 (not a toll-free number); concerning submissions of comments or the public hearing, Vivian Hayes, (202) 317-6901 (not toll-free number) or by email to publichearings@irs.gov (preferred).

SUPPLEMENTARY INFORMATION:

Background

The notice of proposed rulemaking (REG-133850-13) that is the subject of this correction is under section 263A of the Code.

Correction of Publication

Accordingly, the notice of proposed rulemaking (REG-133850-13) that is the subject of FR Doc. 2024-10579, published on May 15, 2024, is corrected on page 42405, in the third column, by correcting the third line from the bottom of the column to read, “amendments to § 1.263A-11(e) to”.

Oluwafunmilayo A. Taylor,
Section Chief, Publications and Regulations Section, Associate Chief Counsel, (Procedure and Administration).

[FR Doc. 2024-16214 Filed 7-23-24; 8:45 am]

BILLING CODE 4830-01-P